DEPARTMENT OF COMMERCE

National Oceanic and Atmospheric Administration

[RTID 0648-XA814]

Pacific Island Fisheries; Experimental Fishing Permit

AGENCY: National Marine Fisheries Service (NMFS), National Oceanic and Atmospheric Administration (NOAA), Commerce.

ACTION: Notice; issuance of permit.

SUMMARY: NMFS is issuing an experimental fishing permit (EFP) to the Hawaii Longline Association (HLA) to test the conservation and management usefulness of tori lines (bird scaring streamers) in the Hawaii deep-set longline fishery.

DATES: The EFP is authorized from January 27, 2021, through January 26, 2022.

ADDRESSES: Copies of the EFP, HLA's application, and supporting documents are available at http://www.regulations.gov/#!docketDetail;D=NOAA-NMFS-2020-0155.

FOR FURTHER INFORMATION CONTACT: Sarah Ellgen, Sustainable Fisheries, NMFS Pacific Islands Regional Office, tel (808) 725-5173.

SUPPLEMENTARY INFORMATION: NMFS is issuing an EFP to the HLA under the authority of the Magnuson-Stevens Fishery Conservation and Management Act, the Fishery Ecosystem Plan for Pelagic Fisheries of the Western Pacific, and regulations at 50 CFR 665.17. HLA will use up to four stern-setting vessels to test tori lines north of 23° N. Vessels will not be required to use strategic offal discharge (discharging bait and fish offal) when seabirds are present, or blue-dyed bait, both of which are normally required north of 23° N.

On December 8, 2020, NMFS published a notice of HLA's EFP application and request for public comments (85 FR 78997); we did not receive any comments. More information about the EFP may be found in that notice, and in HLA's application (see ADDRESSES).

The EFP is effective for one year, unless revoked, suspended, or modified earlier.

Authority: 16 U.S.C. 1801 et seq.

Dated: February 2, 2021.
Jennifer M. Wallace,
Acting Director, Office of Sustainable Fisheries, National Marine Fisheries Service.

[FR Doc. 2021-02424 Filed 2-4-21; 8:45 am]

BILLING CODE 3510-22-P